DEPARTMENT OF THE TREASURY

Senior Executive Service; Departmental Performance Review Board

AGENCY: Treasury Department.

ACTION: Notice of members of the Departmental Performance Review Board (PRB).

SUMMARY: Pursuant to 5 U.S.C. 4314(c)(4), this notice announces the appointment of members of the Departmental PRB. The purpose of this PRB is to review and make recommendations concerning proposed performance appraisals, ratings, bonuses and other appropriate personnel actions for incumbents of SES positions for which the Secretary or Deputy Secretary is the appointing authority. These positions include SES bureau heads, deputy bureau heads and certain other positions. The Board will perform PRB functions for other key bureau positions if requested.

Composition of Departmental PRB: The Board shall consist of at least three members. In the case of an appraisal of a career appointee, more than half the members shall consist of career appointees. The names and titles of the PRB members are as follows:

Daniel M. Tangherlini, Assistant Secretary for Management and Chief Financial Officer

Daniel L. Glaser, Assistant Secretary for Terrorist Financing

Richard L. Gregg, Fiscal Assistant Secretary

Rosa G. Rios, Treasurer of the United States

Nani Ann Coloretti, Deputy Assistant Secretary for Management and Budget

Anita K. Blair, Deputy Assistant Secretary for Human Resources and Chief Human Capital Officer

Christopher J. Meade, Principal Deputy General Counsel

Steven T. Miller, Deputy Commissioner, Services and Enforcement, Internal Revenue Service

Elizabeth Tucker, Deputy Commissioner, Operations Support, Internal Revenue Service

John J. Manfreda, Administrator, Alcohol and Tobacco Tax and Trade Bureau

Mary G. Ryan, Deputy Administrator, Alcohol and Tobacco Tax and Trade Bureau

James H. Freis, Jr., Director, Financial Crimes Enforcement Network

David A. Lebryk, Commissioner, Financial Management Service

Wanda J. Rogers, Deputy Commissioner, Financial Management Service

Frederic Van Zeck, Commissioner, Bureau of the Public Debt

Anita D. Shandor, Deputy Commissioner, Bureau of the Public Debt

Larry R. Felix, Director, Bureau of Engraving and Printing

Pamela J. Gardiner, Deputy Director, Bureau of Engraving and Printing

Richard A. Peterson, Deputy Director, U.S. Mint

DATES: Membership is effective on the date of this notice.

FOR FURTHER INFORMATION CONTACT: Julia J. Markham, Human Resources Specialist (Executive Resources), 1500 Pennsylvania Avenue NW., ATTN: 1801 L Street, NW.—6th Floor, Washington, DC 20220, Telephone: (202) 927-4370.

This notice does not meet the Department's criteria for significant regulations.

Dated: October 28, 2011.
Catherine R. Schmader,
Executive Resources Program Manager.

[FR Doc. 2011-28969 Filed 11-8-11; 8:45 am]

BILLING CODE 4811-42-P